DEPARTMENT OF HOMELAND SECURITY

Federal Emergency Management Agency

44 CFR Part 67

[Docket No. FEMA-B-1012]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 21, 2009.

ADDRESSES: The corresponding preliminary Flood Insurance Rate Map (FIRM) for the proposed BFEs for each community are available for inspection at the community's map repository. The respective addresses are listed in the table below.

You may submit comments, identified by Docket No. FEMA-B-1012, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground: Existing | * Elevation in feet (NGVD) + Elevation in feet (NAVD) # Depth in feet above ground: Modified
City of Campbell, Ohio
Ohio | City of Campbell | Mahoning River | Approximately 1,400 feet upstream of Bridge Road | None | +827
|  |  | Approximately 7,700 feet upstream of Bridge Road | None | +831
|  |  | Approximately 2,700 feet downstream of Center Street | None | +833
|  |  | Approximately 2,000 feet downstream of Center Street | None | +833
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Campbell
Maps are available for inspection at Administration and Finance Office, 351 Tenney Avenue, Campbell, OH 44405.
City of Radford, Virginia
Virginia | City of Radford | Plum Creek | Approximately 300 feet downstream of U.S. Highway 11 | +1738 | +1739
|  |  | Approximately at the upstream corporate limits for the City of Radford | +1768 | +1782
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed. Send comments to William R. Blanton, Jr., Chief, Engineering Management Branch, Mitigation Directorate, Federal Emergency Management Agency, 500 C Street, SW., Washington, DC 20472.
ADDRESSES
City of Radford
Maps are available for inspection at City of Radford Engineering Department, 619 Second Street, Radford, VA 24141.

Flooding source(s) | Location of referenced elevation ** | * Elevation in feet (NGVD) + Elevation in feet (NAVD) # Depth in feet above ground: Effective | * Elevation in feet (NGVD) + Elevation in feet (NAVD) # Depth in feet above ground: Modified | Communities affected
Hancock County, Illinois, and Incorporated Areas
Mississippi River | From the Hancock/Adams county boundary at River Mile 347.4; approximately 4 miles upstream of Lock and Dam No. 20 | +495 | +494 | Unincorporated Areas of Hancock County, City of Dallas City, City of Hamilton, City of Nauvoo, City of Warsaw, Village of Pontoosuc.
| To the Hancock/Henderson county boundary at River Mile 390.85, approximately Oak Street in Dallas City | +528 | +529
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Dallas City
Maps are available for inspection at 261 Oak Street, P.O. Box 454, Dallas City, IL 62330.
City of Hamilton
Maps are available for inspection at Hamilton City Hall, 1010 Broadway Street, Hamilton, IL 62341.
City of Nauvoo
Maps are available for inspection at 60 North Bluff Street, P.O. Box 85, Nauvoo, IL 62354.
City of Warsaw
Maps are available for inspection at 210 North Fourth Street, P.O. Box 12, Warsaw, IL 62379.
Unincorporated Areas of Hancock County
Maps are available for inspection at 500 Main Street, P.O. Box 444, Carthage, IL 62321.
Village of Pontoosuc
Maps are available for inspection at Pontoosuc Village Hall, 200 Mustard Street, Pontoosuc, IL 62368.
Thurston County, Nebraska, and Incorporated Areas
Logan Creek | Approximately 2.20 miles downstream of State Highway 94 | None | +1318 | Unincorporated Areas of Thurston County, Omaha Indian Tribe.
| Approximately 1.65 miles upstream of State Highway 94 | None | +1332
Middle Creek | Approximately 0.81 mile downstream of Avenue B | None | +1405 | Unincorporated Areas of Thurston County, Village of Emerson, Winnebago Indian Tribe.
| Approximately 0.27 mile upstream of County Road 15 | None | +1425
Unnamed Tributary to Logan Creek | Approximately 0.75 mile upstream of State Highway 9 | None | +1333 | Unincorporated Areas of Thurston County, Omaha Indian Tribe.
| Approximately 0.30 mile upstream of State Highway 9 | None | +1347
Unnamed Tributary to Middle Creek | Approximately 530 feet downstream of Lagan Street | None | +1419 | Village of Emerson, Winnebago Indian Tribe.
| Approximately 750 feet upstream of 1st Street | None | +1441
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Omaha Indian Tribe
Maps are available for inspection at 100 Main Street, Macy, NE 68039.
Unincorporated Areas of Thurston County
Maps are available for inspection at 106 South 5th Street, Pender, NE 68047.
Village of Emerson
Maps are available for inspection at 211 West Front Street, Emerson, NE 68733.
Winnebago Indian Tribe
Maps are available for inspection at 100 Buff Street, Winnebago, NE 68071.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Suffolk County, New York, and Incorporated Areas
Atlantic Ocean | Approximately 700 feet west of the Oak Beach Road dead end | +11 | +8 | Town of Babylon, Shinnecock Indian Reservation, Town of Brookhaven, Town of East Hampton, Town of Islip, Town of Southampton, Village of Amityville, Village of Babylon, Village of Bellport, Village of East Hampton, Village of Lindenhurst, Village of Ocean Beach, Village of Quogue, Village of Sagaponack, Village of Saltaire, Village of Southampton, Village of West Hampton Dunes, Village of Westhampton Beach.
| Approximately 160 feet south of Beach Lane extended | +13 | +23
Barley Field Cove | Approximately 1,000 feet east of the intersection of East End Drive and Brooks Point Road | +10 | +8 | Town of Southold.
| Shoreline approximately 1,425 feet east of the intersection of East End Drive and Brooks Point Road | +14 | +16
Bellport Bay | At the intersection of Thorn Hedge Road and Bayberry Road | None | +5 | Village of Bellport, Town of Brookhaven, Village of Patchogue.
| Shoreline at southwestern end of South Howells Point Road | +7 | +8
Block Island Sound | Approximately 850 feet northwest of the intersection of Montauk County Park Road and East Lake Drive | +8 | +5 | Town of East Hampton, Town of Southold.
| Fishers Island—Shoreline approximately 900 feet east of the intersection of Montauk Highway and Old Montauk Highway | +11 | +21
Block Island Sound | Approximately 1,700 feet southwest of the intersection of Soundview Drive and Captain Kidd's Path | +8 | #2 | Town of East Hampton.
Bostwick Bay | Gardiners Island—Approximately 1.4 miles northwest of the intersection of Gardiner Island Road and 4wd Road | +8 | +7 | Town of East Hampton.
| Gardiners Island—Approximately 1.2 miles northwest of the intersection of Gardiner Island Road and 4wd Road | +10 | +12
Centerport Harbor | Approximately 500 feet south of the intersection of Prospect Road and Mill Dam Road | +11 | +9 | Town of Huntington, Village of Huntington Bay, Village of North Haven.
| Shoreline approximately 1,500 feet northeast of the intersection of Monroe Drive and Garfield Street | +13 | +14
Cocomount Cove | Approximately 500 feet northwest of the intersection of East End Drive and Brooks Point Road | +9 | +8 | Town of Southold.
| Shoreline approximately 735 feet northwest of the intersection of East End Drive and Brooks Point Road | +12 | +13
Coecles Inlet | Burns Road, approximately 1,200 feet east of the intersection with North Cartwright Avenue | +8 | +7 | Town of Shelter Island, Village of Dering Harbor.
| Shoreline at eastern end of Burns Road | +11 | +10
Cold Spring Harbor | Approximately 150 feet north of the intersection of Shore Road and Spring Street | +11 | +9 | Town of Huntington.
| Approximately 1,325 feet west of the intersection of Dogwood Lane and Fort Hill Drive | +11 | +33
Conscience Bay | Approximately 175 feet southwest of the intersection of Bobs Lane and Chickadee Way | +10 | +8 | Town of Brookhaven, Village of Old Field, Village of Poquott, Village of Port Jefferson. |  | Shoreline approximately 1,340 feet west of the intersection of Gaul Road North and Gun Path | +10 | +14
Cutchogue Harbor | Shoreline approximately 50 feet west of the intersection of Skunk Lane and Sterling Road | +7 | +6 | Town of Southold.
| Shoreline approximately 1,260 feet south of the intersection of Haywaters Road and West Cove Road | +7 | +16
| At the intersection of Orchard Street and 1st Street | +7 | #1
| Approximately 65 feet northwest of the southeastern terminus of Old Harbor Road | +7 | #2
Dering Harbor | Approximately 700 feet east of the intersection of North Ferry Road and W Neck Road | +7 | +5 | Town of Shelter Island, Village of Dering Harbor, Village of Greenport.
| Shoreline approximately 540 feet north of the intersection of North Ferry Road and Winthrop Road | +9 | +17
Duck Island Harbor | Approximately 200 feet east of the end of South Harbor Road | None | +11 | Town of Huntington, Village of Asharoken, Village of Huntington Bay, Village of Northport.
| Approximately 1,200 feet southeast of the intersection of Ponnell Road and South Harbor Road | +11 | +16
Fishers Island Sound | Approximately 1,400 feet north of the intersection of East End Drive and Clay Point Road | None | +7 | Town of Southold.
| Approximately 1,600 feet northwest of the intersection of Fox Avenue and Crescent Avenue | +12 | +46
Flanders Bay | At the intersection of Meeting House Creek Road and Harbor Road | +7 | +6 | Town of Riverhead, Town of Southampton.
| Shoreline approximately 1,850 feet east of the intersection of Indian Point Road and Circle Drive | +7 | +13
Flanders Bay | At the intersection of Indian Point Road and Circle Drive | None | #2 | Town of Riverhead.
| Approximately 75 feet east of the intersection of Harbor Road and Meeting House Creek Road | +7 | #2
Fort Pond Bay | Approximately 425 feet west of the intersection of South Erie Avenue and South Embassy Street | +9 | +5 | Town of East Hampton.
| Shoreline approximately 1,500 feet west of the end of Wills Point Road | +10 | +19
| Shoreline approximately 600 feet north of the end of Wills Point Road | +8 | #2
| Shoreline approximately 1,600 feet north of the end of Wills Point Road | +8 | #2
| Shoreline approximately 850 feet south of the end of Wills Point Road | +8 | #2
Gardiners Bay | Approximately 420 feet southwest of the intersection of Kings Point Road and Hog Creek Lane | +8 | +5 | Town of East Hampton, Town of Shelter Island, Town of Southold, Village of Dering Harbor.
| Along the shoreline, approximately 1,500 feet west of Plum Gut Harbor | +12 | +19
Great Peconic Bay | At the intersection of West Street and 2nd Street | +7 | +6 | Town of Riverhead, Town of Southampton, Town of Southold.
| Approximately 750 feet east 1st Street and Bray Avenue | +7 | +11
| West Street approximately 300 feet southeast of the intersection with 2nd Street | +7 | #1
| Oak Street approximately 175 feet southeast of the intersection with Bayside Avenue | +7 | #2
Great South Bay | Intersection of Gibson Street and Huma Avenue | +5 | +4 | Town of Babylon, Town of Islip, Village of Amityville, Village of Babylon, Village of Brightwaters, Village of Lindenhurst.
| At southern end of Norman Avenue | +8 | +10
Greenport Harbor | At the intersection of Sterling Avenue and Sterling Street | +7 | +6 | Town of Southold, Town of Shelter Island, Village of Greenport.
| Shoreline approximately 170 feet east-southeast of the intersection of Sterling Avenue and Sterling Street | +9 | +10
Hay Harbor | Approximately 300 feet north of the intersection of Equestrian Avenue and Winthrop Drive | +10 | +11 | Town of Southold.
| Approximately 0.5 mile north of the intersection of Equestrian Avenue and Winthrop Drive | +12 | +16
Huntington Bay | Approximately 50 feet south of the intersection of Surf Lane and Lighthouse Road | +11 | +9 | Town of Huntington, Village of Asharoken, Village of Huntington Bay, Village of Lloyd Harbor.
| Shoreline approximately 1,000 feet east of the end of Crescent Beach Drive | +13 | +21
Huntington Harbor | Approximately 400 feet south of the intersection of Bouton Road and Pine Point Road | +11 | +9 | Town of Huntington, Village of Huntington Bay, Village of Lloyd Harbor.
| Shoreline approximately 760 feet southeast of the intersection of Bouton Road and Pine Point Road | +11 | +12
Lake Montauk | Farragut Road, approximately 1,400 feet northeast of the intersection with West Lake Drive | +8 | +5 | Town of East Hampton.
| Approximately 350 feet west of the intersection of Prospect Hill Lane and East Lake Drive | +9 | +11
Little Peconic Bay | Approximately 350 feet south of the intersection of Arrowhead Lane and Campfire Lane | +7 | +6 | Town of Southold.
| Approximately 1,700 feet northeast of the intersection of Arrowhead Lane and Campfire Lane | +7 | +16
| Approximately 400 feet northeast of the intersection of Nassau Point Road and Broadwaters Road | +7 | #1
| Approximately 400 feet southeast of the intersection of Nassau Point Road and Broadwaters Road | +7 | #2
Lloyd Harbor | Approximately 700 feet west of the intersection of Lloyd Harbor Road and Fiddlers Green Drive | +11 | +9 | Village of Lloyd Harbor.
| Shoreline approximately 825 feet east-northeast of the intersection of Lloyd Harbor Road and Fiddlers Green Drive | +15 | +14
Long Island Sound | Approximately 1,300 feet north of the intersection of Main Road and Cove Beach Road | +9 | +6 | Village of Lloyd Harbor, Town of Brookhaven, Town of Huntington, Town of Riverhead, Town of Shelter Island, Town of Smithtown, Town of Southold, Village of Asharoken, Village of Belle Terre, Village of Dering Harbor, Village of Greenport, Village of Head of The Harbor, Village of Huntington Bay, Village of Nissequogue, Village of Northport, Village of Old Field, Village of Poquott, Village of Port Jefferson, Village of Shoreham.
| Approximately 500 feet west of East Point on Plum Island | +14 | +46
Long Island Sound | At the intersection of Carole Road and Old Cove Road | +9 | #2 | Town of Southold.
Majors Harbor | Along the shoreline, approximately 2,200 feet southeast from the end of Mashomack Preserve Road | +8 | +5 | Town of Shelter Island, Town of Southampton, Village of North Haven.
| Shoreline at Majors Point | +9 | +8
Moriches Bay | At the intersection of South County Road and Raynor Drive | +8 | +7 | Town of Brookhaven, Poospatuck Indian Reservation, Town of Southampton, Village of West Hampton Dunes, Village of Westhampton Beach.
| Shoreline, approximately 400 feet north of the intersection of Dune Road and Dune Lane | +9 | +12
Napeague Bay | Approximately 150 feet south of the intersection of Little Alberts Road and Alberts Landing | +7 | +5 | Town of East Hampton.
| Shoreline approximately 0.6 mile west of the intersection of Bayview Avenue and Lazy Point Road | +10 | +14
| Approximately 1,400 feet southeast of the intersection of Waters Edge and Barnes Hole Road | None | #1
Nicoll Bay | At the intersection of Cross Road and West Shore Road | None | +5 | Town of Islip.
| Approximately 700 feet south of the intersection of Shore Drive and Edgewood Avenue | +3 | +7
Northeast Branch Nissuquogue River | Approximately 425 feet upstream of Branch Drive | None | +46 | Town of Smithtown.
| Approximately 525 feet upstream of Branch Drive | None | +46
Northport Bay | Approximately 45 feet west of the intersection of Eatons Neck Road and Steers Avenue | None | +9 | Town of Huntington, Village of Asharoken, Village of Huntington Bay, Village of Northport.
| Shoreline approximately 1,100 feet northeast of the intersection of East Neck Road and Crest Road | +13 | +21
Northport Harbor | At the intersection of Scudder Avenue and Bayview Avenue | None | +9 | Town of Huntington, Village of Northport.
| Approximately 1,400 feet northwest of the intersection of Bluff Point Road and Duffy Road | +13 | +16
Northwest Harbor | Approximately 500 feet north of the intersection of Alewife Brook Road and Terrys Trail | +8 | +5 | Town of East Hampton.
| Shoreline approximately 1,900 feet north of the western terminus of Alewife Brook Road | +10 | +19
Noyack Bay | At the intersection of Bay Avenue and Noyack Avenue | +8 | +6 | Town of Southampton, Village of North Haven, Village of Sag Harbor.
| Shoreline approximately 560 feet west of the intersection of Bay View Court and North Haven Way | +9 | +23
Orient Harbor | At the intersection of Bay Avenue and Rabbit Lane | +8 | +6 | Town of Southold, Town of Shelter Island, Village of Dering Harbor.
| Shoreline at the southeastern end of Bay Avenue | +10 | +9
| Approximately 875 feet northeast of the intersection of East Gillette Drive and Cleaves Point Road | +8 | #1
Oyster Bay | Approximately 150 feet north of the intersection of Shore Road and Spring Street | +11 | +9 | Town of Huntington, Village of Huntington Bay, Village of Lloyd Harbor.
| Approximately 750 feet southwest of Turtle Lane and Mallard Drive | +11 | +39
Patchogue Bay | At the intersection of Harrison Street and South Ocean Avenue | None | +5 | Village of Patchogue, Town of Brookhaven, Town of Islip.
| Shoreline at southern end of Durkee Lane | +7 | +8
Pipes Cove | Approximately 190 feet north of the intersection of Bayshore Road and August Road | +7 | +6 | Town of Southold, Town of Shelter Island, Village of Greenport.
| Shoreline approximately 220 feet east of the intersection of Bayshore Road and August Road | +7 | +13
Port Jefferson Harbor | Approximately 750 feet northwest of the intersection of Barnum Avenue and Maple Place | +10 | +8 | Town of Brookhaven, Village of Belle Terre, Village of Old Field, Village of Poquott, Village of Port Jefferson.
| Shoreline approximately 350 feet northeast of the intersection of Washington Street and Chestnut Avenue | +13 | +24
Reeves Bay | Approximately 100 feet south of the intersection of Flanders Road and Wood Road Trail | None | +7 | Town of Southampton, Town of Riverhead.
| Approximately 300 feet west of the intersection of Long Neck Boulevard and Fantasy Drive | +9 | +10
Sag Harbor Bay | Approximately 300 feet south of the intersection of Woodland Drive and Division Avenue | +10 | +6 | Village of Sag Harbor, Town of East Hampton, Village of North Haven.
| Shoreline approximately 190 feet north of the intersection of Meredith Avenue and Terry Drive | +11 | +13
Shelter Island Sound | Approximately 700 feet southwest of the intersection of Nostrand Parkway and Bootleggers Alley | +7 | +5 | Town of Shelter Island, Town of Southold, Village of North Haven.
| Approximately 550 feet west of the intersection of North Haven Way and On the Bluff | +9 | +23
Shelter Island Sound | Approximately 140 feet northwest of the intersection of Peconic Avenue and Brander Parkway | +7 | #1 | Town of Shelter Island, Town of Southold, Village of Dering Harbor, Village of North Haven.
| Approximately 800 feet west-southwest of the intersection of Nostrand Parkway and Bootleggers Alley | +7 | #2
Shinnecock Bay | Approximately 100 feet east of the intersection of Bonita Road and Whiting Road | None | +8 | Town of Southampton, Village of Quogue.
| Shoreline approximately 900 feet northeast of the intersection of Dune Road and Triton Lane | +9 | +14
Smith Cove | Approximately 370 feet north of the intersection of Thompson Road and Irene Lane | +8 | +5 | Town of Shelter Island, Village of North Haven.
| Approximately 700 feet southeast of the intersection of Thompson Road and Irene Lane | +9 | +21
Smithtown Bay | At the intersection of Riviera Drive and Magnolia Drive | +12 | +9 | Town of Smithtown, Village of Nissequogue.
| Approximately 1,200 feet north of the intersection of Old Dock Road and Upper Dock Road | +15 | +17
Southold Bay | Approximately 850 feet east of the intersection of Route 25 and Town Harbor Lane | +7 | +6 | Town of Southold, Town of Shelter Island.
| Approximately 275 feet north of the intersection of Basin Road and Paradise Point Road | +7 | +21
Tobaccolot Bay | Approximately 1.1 miles east of the intersection of Gardiner Island Road and 4WD Road | +8 | +6 | Town of East Hampton.
| Approximately 1.4 miles east of the intersection of Gardiner Island Road and 4WD Road | +10 | +11
West Harbor | Approximately 0.6 mile east of the intersection of East End Drive and Peninsula Road | +9 | +7 | Town of Southold.
| Shoreline, approximately 1,200 feet east of the intersection of Montauk Avenue and Hedge Street | +12 | +19
West Neck Harbor | Approximately 1,000 feet west of the intersection of Lake Drive and South Midway Road | +7 | +5 | Town of Shelter Island, Village of North Haven.
| Shoreline approximately 1,500 feet south of the intersection of Sea Gate Drive and South Midway Road | +10 | +8
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Poospatuck Indian Reservation
Maps are available for inspection at Poospatuck Indian Reservation Administrative Offices, 138 Elleanor Avenue, Mastic, NY.
Shinnecock Indian Reservation
Maps are available for inspection at Shinnecock Indian National Tribal Office, 100 Church Street, Southampton, NY.
Town of Babylon
Maps are available for inspection at Babylon Town Hall, 200 East Sunrise Highway, Lindenhurst, NY.
Town of Brookhaven
Maps are available for inspection at Brookhaven Town Hall, One Independence Hill, Farmingville, NY.
Town of East Hampton
Maps are available for inspection at East Hampton Town Hall, 159 Pantigo Road, East Hampton, NY.
Town of Huntington
Maps are available for inspection at Huntington Town Hall, 100 Main Street, Huntington, NY.
Town of Islip
Maps are available for inspection at Islip Town Hall, 655 Main Street, Islip, NY.
Town of Riverhead
Maps are available for inspection at Riverhead Town Hall, 201 Howell Avenue, Riverhead, NY.
Town of Shelter Island
Maps are available for inspection at Shelter Island Town Hall, 38 North Ferry Road, Shelter Island, NY.
Town of Smithtown
Maps are available for inspection at Smithtown Town Hall, 99 West Main Street, Smithtown, NY.
Town of Southampton
Maps are available for inspection at Southampton Town Hall, 116 Hampton Road, Southampton, NY.
Town of Southold
Maps are available for inspection at Southold Town Hall, 53095 Routh 25, Southold, NY.
Village of Amityville
Maps are available for inspection at Amityville Village Hall, 21 Greene Avenue, Amityville, NY.
Village of Asharoken
Maps are available for inspection at Asharoken Village Hall, 1 Asharoken Avenue, Northport, NY.
Village of Babylon
Maps are available for inspection at Babylon Village Hall, 153 West Main Street, Babylon, NY.
Village of Belle Terre
Maps are available for inspection at Belle Terre Village Hall, 1 Cliff Road, Belle Terre, NY.
Village of Bellport
Maps are available for inspection at Bellport Village Hall, 29 Bellport Lane, Bellport, NY.
Village of Brightwaters
Maps are available for inspection at Brightwaters Village Hall, 40 Seneca Drive, Brightwaters, NY.
Village of Dering Harbor
Maps are available for inspection at Dering Harbor Village Hall, 23 Locust Point Road, Shelter Island Heights, NY.
Village of East Hampton
Maps are available for inspection at East Hampton Village Hall, 86 Main Street, East Hampton, NY.
Village of Greenport
Maps are available for inspection at Greenport Village Hall, 236 Third Street, Greenport, NY.
Village of Head of The Harbor
Maps are available for inspection at Head of the Harbor Village Hall, 500 North Country Road, Saint James, NY.
Village of Huntington Bay
Maps are available for inspection at Huntington Bay Village Hall, 244 Vineyard Road, Huntington Bay, NY.
Village of Lindenhurst
Maps are available for inspection at Lindenhurst Village Hall, 430 South Wellwood Avenue, Lindenhurst, NY.
Village of Lloyd Harbor
Maps are available for inspection at Lloyd Harbor Village Hall, 32 Middle Hollow Road, Huntington, NY.
Village of Nissequogue
Maps are available for inspection at Nissequogue Village Hall, 631 Moriches Road, St. James, NY.
Village of North Haven
Maps are available for inspection at North Haven Village Hall, 335 Ferry Road, Sag Harbor, NY.
Village of Northport
Maps are available for inspection at Northport Village Hall, 224 Main Street, Northport, NY.
Village of Ocean Beach
Maps are available for inspection at Ocean Beach Village, 315 Cottage Walk, Ocean Beach, NY.
Village of Old Field
Maps are available for inspection at Old Field Village Hall, 207 Old Field Road, Setauket, NY.
Village of Patchogue
Maps are available for inspection at Patchogue Village Hall, 14 Baker Street, Patchogue, NY.
Village of Poquott
Maps are available for inspection at Poquott Village Hall, 45 Birchwood Avenue, East Setauket, NY.
Village of Port Jefferson
Maps are available for inspection at Port Jefferson Village Hall, 121 West Broadway, Port Jefferson, NY.
Village of Quogue
Maps are available for inspection at Quogue Village Hall, 7 Village Lane, Quogue, NY.
Village of Sag Harbor
Maps are available for inspection at Sag Harbor Village Hall, 22 Main Street, Sag Harbor, NY.
Village of Sagaponack
Maps are available for inspection at Sagaponack Village Hall, 20 Sagg Main Street, Sagaponack, NY.
Village of Saltaire
Maps are available for inspection at Saltaire Village Hall, 103 Broadway, Saltaire, NY.
Village of Shoreham
Maps are available for inspection at Shoreham Village Hall, 80 Woodville Road, Shoreham, NY.
Village of Southampton
Maps are available for inspection at Southampton Village Hall, 23 Main Street, Southampton, NY.
Village of West Hampton Dunes
Maps are available for inspection at West Hampton Dunes Village Hall, 4 Arthur Street, West Hampton Beach, NY.
Village of Westhampton Beach
Maps are available for inspection at Westhampton Beach Village Hall, 165 Mill Road, Westhampton Beach, NY.

Flooding source(s) | Location of referenced elevation ** | * Elevation in feet (NGVD) + Elevation in feet (NAVD) # Depth in feet above ground: Effective | * Elevation in feet (NGVD) + Elevation in feet (NAVD) # Depth in feet above ground: Modified | Communities affected
Greene County, Ohio, and Incorporated Areas
Possum Run | Approximately 900 feet downstream of Wilmington Pike | None | +931 | City of Centerville.
| At Wilmington Pike North Branch | None | +940
Shawnee Park Tributary | Approximately 4,200 feet upstream of Monroe Drive | +929 | +924 | City of Xenia.
| Approximately 40 feet downstream of U.S. Route 42 | +942 | +943
Shawnee Park Tributary | Approximately 700 feet downstream of U.S. Route 42 | +934 | +930 | Unincorporated Areas of Greene County.
| Downstream of U.S. Route 42 | +942 | +943
South Fork Massies Creek | Approximately 2,800 feet upstream of Railroad | +1042 | +1041 | Unincorporated Areas of Greene County.
| Approximately 240 feet downstream of Weimer Road | +1051 | +1050
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Centerville
Maps are available for inspection at Municipal Building, 100 West Spring Valley Road, Centerville, OH 45458.
City of Xenia
Maps are available for inspection at City Hall, 101 North Detroit Street, Xenia, OH 45385.
Unincorporated Areas of Greene County
Maps are available for inspection at Greene County Building Regulation, 667 Dayton-Xenia Road, OH 45385.
Hamilton County, Ohio, and Incorporated Areas
Little Miami River | 65 feet upstream of Norfolk and Western railroad crossing | None | +501 | Unincorporated Areas of Hamilton County, Village of Fairfax, Village of Mariemont.
| 665 feet downstream of Harvard Street in Village of Mariemont | None | +501
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Hamilton County
Maps are available for inspection at Hamilton County Department of Public Works, 138 East Court Street, Room 800, Cincinnati, OH 45202.
Village of Fairfax
Maps are available for inspection at Fairfax Municipal Building, 5903 Hawthorne Avenue, Fairfax, OH 45227.
Village of Mariemont
Maps are available for inspection at Mariemont Municipal Building, 6907 Wooster Pike, Mariemont, OH 45227.
Claiborne County, Tennessee, and Incorporated Areas
Clinch River/Norris Lake | Approximately 2.3 miles downstream of the confluence of Big Barren Creek | None | +1055 | Unincorporated Areas of Claiborne County.
| Approximately 3.3 miles upstream of U.S. Highway 25 | None | +1055
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Claiborne County
Maps are available for inspection at County Courthouse, 1740 Main Street, Tazewell, TN 37879.
Montgomery County, Virginia, and Incorporated Areas
Plum Creek | Approximately 900 ft upstream of U.S. Highway 11 | +1754 | +1755 | Unincorporated Areas of Montgomery County.
| Approximately at the intersection of Gate Road and Plum Creek Road | None | +1918
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Montgomery County
Maps are available for inspection at Planning and GIS Services, 755 Roanoke Street, Christiansburg, VA 24073.
Pepin County, Wisconsin, and Incorporated Areas
Chippewa River | Approximately 7,000 feet downstream of the new U.S. Highway 10 Bridge | None | +712 | City of Durand, Unincorporated Areas of Pepin County.
| Approximately 6,000 feet upstream of the confluence of Bear Creek | None | +717
Mississippi River | Approximately at the intersection of Lakeport Road and State Highway 35 | +682 | +681 | Village of Stockholm, Unincorporated Areas of Pepin County.
| At the county boundary with Pierce County. | +682 | +681
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Durand
Maps are available for inspection at City Hall, 104 East Main Street, Durand, WI 54736.
Unincorporated Areas of Pepin County
Maps are available for inspection at Pepin County Government Center, 740 7th Avenue West, Pepin, WI 54736.
Village of Stockholm
Maps are available for inspection at Village Hall, 2041 Spring Street, Stockholm, WI 54769.

(Catalog of Federal Domestic Assistance No. 97.022, “Flood Insurance.”)

Dated: October 9, 2008.
Michael K. Buckley,
Acting Assistant Administrator, Mitigation Directorate, Department of Homeland Security, Federal Emergency Management Agency.

[FR Doc. E8-25263 Filed 10-22-08; 8:45 am]

BILLING CODE 9110-12-P